SURFACE TRANSPORTATION BOARD

[Docket No. FD 36015]

Allegheny Valley Railroad Company—Temporary Trackage Rights Exemption—Norfolk Southern Railway Company

Pursuant to a written trackage rights agreement (Agreement) dated April 12, 2016,¹ Norfolk Southern Railway Company (NS), has agreed to grant non-exclusive, temporary overhead trackage rights to Allegheny Valley Railroad Company (AVR) over NS's line between CP Bloom, milepost 351.6, and CP Home, milepost 347.8, in Pittsburgh, Pa., a distance of 3.8 miles.

¹ A redacted version of the fully executed Agreement between AVR and NS was filed with the notice. A confidential, unredacted version of the Agreement also was submitted under seal to be kept confidential by the Board under 49 CFR 1104.14(a).

The transaction may be consummated on or after May 21, 2016, the effective date of the exemption (30 days after the verified notice of exemption was filed). The purpose of the trackage rights is to allow AVR to operate bridge train service for a 125-day period while AVR rehabilitates a trestle on its Allegheny Subdivision. The temporary trackage rights will expire 125 days from the commencement date mutually agreed upon between AVR and NS, which commencement date shall not occur until after the effective date of the exemption but, pursuant to the Agreement, no later than July 15, 2016.

As a condition to this exemption, any employees affected by the acquisition of the temporary trackage rights will be protected by the conditions imposed in Norfolk & Western Railway—Trackage Rights—Burlington Northern, Inc., 354 I.C.C. 605 (1978), as modified in Mendocino Coast Railway—Lease & Operate—California Western Railroad, 360 I.C.C. 653 (1980), and any employees affected by the discontinuance of those trackage rights will be protected by the conditions set out in Oregon Short Line Railroad—Abandonment Portion Goshen Branch Between Firth & Ammon, in Bingham & Bonneville Counties, Idaho, 360 I.C.C. 91 (1979).

This notice is filed under 49 CFR 1180.2(d)(8). If the verified notice contains false or misleading information, the exemption is void ab initio. Petitions to revoke the exemption under 49 U.S.C. 10502(d) may be filed at any time. The filing of a petition to revoke will not automatically stay the effectiveness of the exemption. Petitions for stay must be filed no later than May 13, 2016 (at least seven days before the exemption becomes effective).

An original and 10 copies of all pleadings, referring to Docket No. FD 36015, must be filed with the Surface Transportation Board, 395 E Street SW., Washington, DC 20423-0001. In addition, a copy of each pleading must be served on Richard R. Wilson, 518 N. Center Street Ste. 1, Ebensburg, PA 15931.

Board decisions and notices are available on our Web site at “WWW.STB.DOT.GOV.”

Decided: May 3, 2016.
By the Board, Rachel D. Campbell, Director, Office of Proceedings.
Brendetta S. Jones,
Clearance Clerk.

[FR Doc. 2016-10686 Filed 5-5-16; 8:45 am]

BILLING CODE 4915-01-P